DEPARTMENT OF COMMERCE

National Oceanic and Atmospheric Administration

RIN 0648-XV094

Fisheries of the South Atlantic; Southeast Data, Assessment, and Review (SEDAR); Public Meeting

AGENCY: National Marine Fisheries Service (NMFS), National Oceanic and Atmospheric Administration (NOAA), Commerce.

ACTION: Notice of SEDAR 60 In-person Workshop for South Atlantic Red Porgy.

SUMMARY: The SEDAR 60 assessment of the South Atlantic stock of Red Porgy will consist of a series of workshops and webinars: An In-person Workshop to address data and assessment needs, and Assessment Webinars. See SUPPLEMENTARY INFORMATION.

DATES: The SEDAR 60 In-person Workshop will be held on December 10, 2019, from 9 a.m. to 6 p.m.; December 11, 2019, from 8:30 a.m. to 6 p.m.; and December 12, 2019, from 8:30 a.m. to 1 p.m. The established times may be adjusted as necessary to accommodate the timely completion of discussion relevant to the assessment process. Such adjustments may result in the meeting being extended from or completed prior to the time established by this notice.

ADDRESSES:

Meeting address: The SEDAR 60 In-person Workshop will be held at the Beaufort Hotel, 2440 Lennoxville Road, Beaufort, NC 28516; phone: (252)728-3000.

SEDAR address: South Atlantic Fishery Management Council, 4055 Faber Place Drive, Suite 201, N Charleston, SC 29405; www.sedarweb.org.

FOR FURTHER INFORMATION CONTACT: Kathleen Howington, SEDAR Coordinator, 4055 Faber Place Drive, Suite 201, North Charleston, SC 29405; phone: (843) 571-4366; email: Kathleen.howington@safmc.net.

SUPPLEMENTARY INFORMATION: The Gulf of Mexico, South Atlantic, and Caribbean Fishery Management Councils, in conjunction with NOAA Fisheries and the Atlantic and Gulf States Marine Fisheries Commissions, have implemented the Southeast Data, Assessment and Review (SEDAR) process, a multi-step method for determining the status of fish stocks in the Southeast Region. SEDAR is a three-step process including: (1) Data Workshop; (2) Assessment Process utilizing webinars; and (3) Review Workshop. The product of the Data Workshop is a data report which compiles and evaluates potential datasets and recommends which datasets are appropriate for assessment analyses. The product of the Assessment Process is a stock assessment report which describes the fisheries, evaluates the status of the stock, estimates biological benchmarks, projects future population conditions, and recommends research and monitoring needs. The assessment is independently peer reviewed at the Review Workshop. The product of the Review Workshop is a Summary documenting panel opinions regarding the strengths and weaknesses of the stock assessment and input data. Participants for SEDAR Workshops are appointed by the Gulf of Mexico, South Atlantic, and Caribbean Fishery Management Councils and NOAA Fisheries Southeast Regional Office, Highly Migratory Species Management Division, and Southeast Fisheries Science Center. Participants include: Data collectors and database managers; stock assessment scientists, biologists, and researchers; constituency representatives including fishermen, environmentalists, and non-governmental organizations (NGOs); international experts; and staff of Councils, Commissions, and state and federal agencies.

The SEDAR 60 In-person Workshop is being held to address both data and assessment concerns. The items for discussion could include:

1. Participants could evaluate all available data and select appropriate sources for providing information on life history characteristics, catch statistics, discard estimates, length and age composition, and fishery independent and fishery dependent measures of stock abundance, as specified in the Terms of Reference for the workshop, to develop an assessment data set and associated documentation.

2. Participants might then consider methods and configuration options for models, recommend assessment methods (i.e., model types) to pursue for potential base model configuration, identify likely issues to be addressed and evaluated in developing the base model, review base model alternatives and recommend a base model approach and configuration. Participants could also, recommend sensitivities and uncertainty evaluations, review continuity, sensitivities and uncertainty evaluations, recommend projection approaches and configuration and review projection results.

The In person Workshop is open to the public. Additional information about SEDAR 60, including a public comment form is available from the SEDAR website at: http://sedarweb.org/sedar-60.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SAFMC office (see ADDRESSES) at least 10 business days prior to the meeting.

Note: The times and sequence specified in this agenda are subject to change.

Authority: 16 U.S.C. 1801 et seq.

Dated: October 1, 2019.
Tracey L. Thompson,
Acting Deputy Director, Office of Sustainable Fisheries, National Marine Fisheries Service.

[FR Doc. 2019-21653 Filed 10-3-19; 8:45 am]

BILLING CODE 3510-22-P